DEPARTMENT OF COMMERCE

National Oceanic and Atmospheric Administration

[RIN 0648-XA19]

Endangered and Threatened Species; Take of Anadromous Fish

AGENCY: National Marine Fisheries Service (NMFS), National Oceanic and Atmospheric Administration (NOAA), Commerce.

ACTION: Receipt of application for scientific research/enhancement permit (1610) and request for comment.

SUMMARY: Notice is hereby given that NMFS has received an application for a permit from Thomas R. Payne and Associates, Arcata, California (Permit 1610). This permit would affect the Southern California (SC) steelhead (Oncorhynchus mykiss) distinct population segment (DPS), Northern California (NC) steelhead DPS, Central California Coast (CCC) steelhead DPS, California Coastal (CC) Chinook salmon (Oncorhynchus tshawytscha) Evolutionarily Significant Population (ESU), Southern Oregon/Northern California Coast (SONCC) coho salmon (Oncorhynchus kisutch) ESU, and CCC coho salmon ESU. This document serves to notify the public of the availability of the permit application for review and comment before a final approval or disapproval is made by NMFS.

DATES: Written comments on the permit application must be received at the appropriate address or fax number (see ADDRESSES) no later than 5 p.m. Daylight Savings Time on June 15, 2007.

ADDRESSES: Written comments on this permit request should be sent to the office indicated below. Comments may also be sent via fax to the number indicated for the request. Comments will not be accepted if submitted via e-mail or the internet. The application and related documents are available for review, by appointment at NMFS, 1655 Heindon Road, Arcata, CA 95521 (ph: 707-825-5185, fax: 707-825-4840).

FOR FURTHER INFORMATION CONTACT: Diane Ashton at phone number (707-825-5185), or e-mail: diane.ashton@noaa.gov

SUPPLEMENTARY INFORMATION:

Authority

Issuance of permits and permit modifications, as required by the Endangered Species Act of 1973 (16 U.S.C. 1531-1543) (ESA), is based on a finding that such permits/modifications: (1) Are applied for in good faith; (2) would not operate to the disadvantage of the listed species which are the subject of the permits; and (3) are consistent with the purposes and policies set forth in section 2 of the ESA. Authority to take listed species is subject to conditions set forth in the permits. Permits and modifications are issued in accordance with and are subject to the ESA and NMFS regulations governing listed fish and wildlife permits (50 CFR parts 222-226).

Those individuals requesting a hearing on the application listed in this notice should set out the specific reasons why a hearing on that application would be appropriate (see ADDRESSES). The holding of such a hearing is at the discretion of the Assistant Administrator for Fisheries, NOAA. All statements and opinions contained in the permit action summaries are those of the applicant and do not necessarily reflect the views of NMFS.

Species Covered in This Notice

This notice is relevant to the endangered CCC coho salmon ESU, and the following threatened salmonid DPSs and ESUs: SC steelhead DPS, NC steelhead DPS, CCC steelhead DPS, CC Chinook salmon ESU, and SONCC coho salmon ESU.

Permit Request Received.

Permit 1610

Thomas Payne has requested a Permit (1610) for take of the above listed species associated with four studies. Study 1 (Ventura River Project) would assess the distribution and estimate the abundance of juvenile steelhead/rainbow trout, with a comparison to estimates from 2006, in the Ventura River and principal tributaries, Ventura County, California. Study 2 (Martin Slough Project) would assess the fish habitat quality of Martin Slough and to document the distribution and abundance of fish, including juvenile salmonids, in Martin Slough which flows into Swain Slough, a tributary to Elk River which flows into Humboldt Bay, Humboldt County, California . Study 3 (Russian River Project) would assess the fish habitat quality and fish distribution, including juvenile salmonids, in two tributaries of the upper Russian River basin near Ukiah, Mendocino County, California. Study 4 (PALCO Marsh Project) would assess the fish populations in PALCO Marsh and tidal channels to Humboldt Bay, Humboldt County, California.

Permit 1610, if issued, would expire September, 2017.

Dated: May 10, 2007.
Angela Somma,
Chief, Endangered Species Division, Office of Protected Resources, National Marine Fisheries Service.

[FR Doc. E7-9422 Filed 5-15-07; 8:45 am]

BILLING CODE 3510-22-S